ENVIRONMENTAL PROTECTION AGENCY

[EPA-HQ-OPP-2011-0855; FRL-9955-72]

Paraquat Dichloride Human Health Mitigation Decision; Notice of Availability

AGENCY: Environmental Protection Agency (EPA).

ACTION: Notice.

SUMMARY: This notice announces the availability of EPA's human health mitigation decision for the pesticide paraquat dichloride, case 0262. Registration review is EPA's periodic review of pesticide registrations to ensure that each pesticide continues to satisfy the statutory standard for registration, that is, that the pesticide can perform its intended function without causing unreasonable adverse effects on human health or the environment. Through this program, EPA is ensuring that each pesticide's registration is based on current scientific and other knowledge, including its effects on human health and the environment. EPA may pursue mitigation at any time during the registration review process if it finds that a pesticide poses unreasonable adverse effects to human health or the environment. Based on the number and severity of paraquat human health incidents, the EPA believes that the mitigation measures outlined in this human health mitigation decision are necessary to address identified human health risk concerns.

FOR FURTHER INFORMATION CONTACT: For pesticide specific information, contact: Marianne Mannix, Pesticide Re-Evaluation Division (7508P), Office of Pesticide Programs, Environmental Protection Agency, 1200 Pennsylvania Ave. NW., Washington, DC 20460-0001; telephone number: (703) 347-0275; email address: Mannix.marianne@epa.gov.

For general information on the registration review program, contact: Richard Dumas, Pesticide Re-Evaluation Division (7508P), Office of Pesticide Programs, Environmental Protection Agency, 1200 Pennsylvania Ave. NW., Washington, DC 20460-0001; telephone number: (703) 308-8015; email address: dumas.richard@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide specific contact person listed under FOR FURTHER INFORMATION CONTACT.

B. How can I get copies of this document and other related information?

The docket for this action, identified by docket identification (ID) number EPA-HQ-OPP-2011-0855, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

Pursuant to 40 CFR 155.58(c), this notice announces the availability of EPA's human health mitigation decision for paraquat dichloride, case 0262. Paraquat is a widely used broad spectrum herbicide for the control of weeds in many agricultural and non-agricultural settings. It is also used as a desiccant on crops, prior to harvest. It is classified as restricted use due to high toxicity. An estimated 1.5 teaspoons (tsp) can be lethal if ingested and there is no known antidote. Paraquat dichloride is associated with a disproportionately high number of incidents including accidental ingestions typically leading to fatalities as well as occupational spills, splashes, and leaks resulting in severe and often damaging dermal or ocular contact. Paraquat is known to be corrosive to skin and eyes. EPA recently reviewed all available incident information and determined that mitigation measures to address these human health risk concerns are necessary.

In addition to the human health mitigation decision document, the registration review docket for paraquat dichloride also includes other relevant documents related to the registration review of this case. The proposed human health mitigation decision was posted to the docket in March 2016, and the public was invited to submit any comments or new information.

During the 60-day comment period, comments were received that resulted in changes to the Agency's human health mitigation decision, including that backpack and hand-held application methods will remain, but will require the development of special containers as part of a `closed system' that prevents spills, mixing, pouring or other actions that could lead to paraquat exposure.

Pursuant to 40 CFR 155.58(c), the registration review case docket for paraquat dichloride will remain open until registration review has been completed.

Background on the registration review program is provided at: http://www2.epa.gov/pesticide-reevaluation. Links to earlier documents related to the registration review of this pesticide are provided at: http://www.epa.gov/ingredients-used-pesticide-products/paraquat.

Authority: 7 U.S.C. 136 et seq.

Dated: December 7, 2016.
Yu-Ting Guilaran,
Director, Pesticide Re-Evaluation Division, Office of Pesticide Programs.

[FR Doc. 2016-31832 Filed 12-30-16; 8:45 am]

BILLING CODE 6560-50-P